DEPARTMENT OF ENERGY

Federal Energy Regulatory Commission

[Docket No. ER94-1409-006, et al.]

Cambridge Electric Light Company, et al.; Electric Rate and Corporate Regulation Filings

January 24, 2002.

Take notice that the following filings have been made with the Commission. Any comments should be submitted in accordance with Standard Paragraph E at the end of this notice.

1. Cambridge Electric Light Company

[Docket Nos. ER94-1409-006 and EL94-88-006]

Take notice that, on January 17, 2002, Cambridge Electric Light Company (Cambridge) filed its Final Refund Report in the referenced dockets.

Comment Date: February 7, 2002.

2. Merrill Lynch Capital Services, Inc.

[Docket No. ER99-830-007]

Take notice that on January 18, 2002, Merrill Lynch Capital Services, Inc. (MLCS) filed with the Federal Energy Regulatory Commission (Commission) a triennial updated market analysis in compliance with the Commission's January 20, 1999 Order in Docket No. ER99-830-000, which authorized MLCS to sell power at market-based rates.

Comment Date: February 8, 2002.

3. Consolidated Edison Company of New York, Inc.

[Docket No. ER02-46-001]

Take notice that on January 18, 2002, Consolidated Edison Company of New York, Inc. (Con Edison) tendered for filing with the Federal Energy Regulatory Commission (Commission) a revised Interconnection Agreement by and between Con Edison and the Power Authority of the State of New York, dated August 1, 2001. The filing was made in compliance with the Commission's Letter Order issued November 29, 2001 in this proceeding.

Comment Date: February 8, 2002.

4. Midwest Independent Transmission System Operator Inc.

[Docket No. ER02-108-003]

Take notice that on January 17, 2002, the Midwest Independent Transmission System Operator, Inc. tendered for filing with the Federal Energy Regulatory Commission (Commission) its compliance filing pursuant to the Commission's December 20, 2001 Order Granting RTO Status, Midwest Independent Transmission System Operator, Inc., 97 FERC ¶ 61,326 (2001), in which the Commission directed the Midwest ISO to file its contract for Market Monitoring Services with Potomac Economics, Ltd.

Comment Date: February 7, 2002.

5. American Electric Power Service Corporation

[Docket No. ER02-282-001]

Take notice that on January 18, 2002, American Electric Power Service Corporation (AEPSC) tendered for filing with the Federal Energy Regulatory Commission (Commission) a Facilities, Operation and Maintenance Agreement (Facility Agreement) dated June 1, 2001, between AEP and Buckeye Rural Electric Cooperative, Inc. (BREC).

Comment Date: February 8, 2002.

6. Florida Power & Light Company

[Docket Nos. ER02-139-001 and ER02-139-002]

Take notice that on January 22, 2002, Florida Power & Light Company tendered for filing with the Federal Energy Regulatory Commission (Commission) a compliance filing in accordance with the December 20, 2001 Letter Order issued by the Commission in the above-referenced proceeding.

Comment Date: February 12, 2002.

7. Armstrong Energy Limited Partnership, LLLP and Troy Energy, LLC

[Docket Nos. ER02-300-002 and 301-002]

Take notice that on January 18, 2002, Armstrong Energy Limited Partnership, LLLP (Armstrong Energy); and Troy Energy, LLC (Troy Energy) filed Revised Power Purchase Agreements (Revised PPAs) with Virginia Electric and Power Company to comply with the Commission's order of December 21, 2001 in these proceedings.

Armstrong Energy and Troy Energy request that their Revised PPAs become effective on January 5, 2002.

Armstrong Energy and Troy Energy have served this filing on the Ohio Public Utilities Commission, the Pennsylvania Public Service Commission, the North Carolina Public Utilities Commission and the Virginia State Corporation Commission.

Comment Date: February 8, 2002.

8. MEP Clarksdale Power, LLC

[Docket No. ER02-309-001]

Take notice that on January 17, 2002, MEP Clarksdale Power, LLC (MEP Clarksdale) tendered for filing with the Federal Energy Regulatory Commission (Commission) an amendment to its rate schedule filing in this docket to respond to the Commission staff's January 10, 2002 deficiency letter.

Comment Date: February 7, 2002.

9. Midwest Independent Transmission System Operator Inc.

[Docket No. ER02-325-001]

Take notice that on January 17, 2002, the Midwest Independent Transmission System Operator, Inc. tendered for filing with the Federal Energy Regulatory Commission (Commission) its compliance filing pursuant to the Commission's December 19, 2001 Letter Order directing the Midwest ISO to file the Coordination Agreement By and Between Midwest Independent Transmission System Operator Inc. and Manitoba Hydro in conformance with the requirements of Order No. 614.

Comment Date: February 7, 2002.

10. Pacific Gas and Electric Company

[Docket No. ER02-637-001]

Take notice that on January 18, 2002, Pacific Gas and Electric Company (PG&E) tendered for filing an errata to its December 27, 2001, filing of changes in rates for the Transmission Revenue Balancing Account Adjustment (TRBAA) rate set forth in its Transmission Owner Tariff (TO Tariff), the Reliability Services (RS) rates set forth in both its TO Tariff and its Reliability Services Tariff (RS Tariff) (certain customers' RS rates are in the TO Tariff while other customers' RS rates are in the separate RS Tariff) and the Transmission Access Charge Balancing Account Adjustment (TACBAA) also set forth in its TO Tariff.

With the exception of the TACBAA rate, these changes in rates are proposed to become effective January 1, 2002.

Copies of this filing have been served upon the California Independent System Operator (ISO), Scheduling Coordinators registered with the ISO, Southern California Edison Company, San Diego Gas & Electric Company, the California Public Utilities Commission and other parties to the official service lists in recent TO Tariff rate cases, FERC Docket Nos. ER00-2360-000 and ER01-66-000.

Comment Date: February 8, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-2184 Filed 1-29-02; 8:45 am]

BILLING CODE 6717-01-P